DEPARTMENT OF TRANSPORTATION

Federal Motor Carrier Safety Administration

[Docket No. FMCSA-2022-0209]

Women of Trucking Advisory Board (WOTAB); Notice of Public Meeting

AGENCY: Federal Motor Carrier Safety Administration (FMCSA), Department of Transportation (DOT).

ACTION: Notice of public meeting.

SUMMARY: This notice announces a meeting of the WOTAB.

DATES: The meeting will be held on Tuesday, May 16, 2023, from 10 a.m. to 4:30 p.m. ET. Requests for accommodations for a disability must be received by Tuesday, May 9. Requests to submit written materials for consideration during the meeting must be received no later than Tuesday, May 9.

ADDRESSES: The meeting will be held virtually for its entirety. Please register in advance of the meeting at www.fmcsa.dot.gov/wotab. Copies of WOTAB task statements and an agenda for the entire meeting will be made available at www.fmcsa.dot.gov/wotab at least 1 week in advance of the meeting. Once approved, copies of the meeting minutes will be available at the website following the meeting. You may visit the WOTAB website at www.fmcsa.dot.gov/wotab for further information on the committee and its activities.

FOR FURTHER INFORMATION CONTACT: Ms. Shannon L. Watson, Designated Federal Officer, WOTAB, FMCSA, 1200 New Jersey Avenue SE, Washington, DC 20590, (202) 360-2925, wotab@dot.gov. Any committee-related request should be sent to the person listed in this section.

SUPPLEMENTARY INFORMATION:

I. Background

WOTAB was created under the Federal Advisory Committee Act (FACA) in accordance with section 23007(d)(1) of the Bipartisan Infrastructure Law (BIL) (Pub. L. 117-58), which requires the Federal Motor Carrier Safety Administration (FMCSA) to establish WOTAB. WOTAB will review and report on policies that provide education, training, mentorship, and outreach to women in the trucking industry and identify barriers and industry trends that directly or indirectly discourage women from pursuing and retaining careers in trucking.

WOTAB operates in accordance with FACA under the terms of the WOTAB charter, filed February 11, 2022.

II. Agenda

The agenda will cover the following topics:

• WOTAB will review and conclude its deliberations on Task 22-1, Crime Prevention for Women Drivers of Commercial Motor Vehicles, and finalize its report.

• WOTAB will begin consideration of Task 23-1, Barriers to the Participation of Women Minority Groups and Women Who Live in Rural, Suburban, or Urban Areas Women to Entering the Trucking Workforce.

• For each topic, FMCSA will include presentations by Agency experts and those in the field under discussion.

III. Public Participation

The meeting will be open to the public via virtual platform. Advance registration via the website is required.

DOT is committed to providing equal access to this meeting for all participants. If you need alternative formats or services due to a disability, such as sign language interpretation or other ancillary aids, please contact the person listed in the FOR FURTHER INFORMATION CONTACT section by Tuesday, May 9.

Oral comments from the public will be heard during designated comment periods at the discretion of the WOTAB chair and Designated Federal Officer. To accommodate as many speakers as possible, the time for each commenter may be limited. Speakers are requested to submit a written copy of their remarks for inclusion in the meeting records and for circulation to WOTAB members. All prepared remarks submitted on time will be accepted and considered as part of the record. Any member of the public may present a written statement to the committee at any time.

Larry W. Minor,
Associate Administrator for Policy.

[FR Doc. 2023-09250 Filed 5-1-23; 8:45 am]

BILLING CODE 4910-EX-P